DEPARTMENT OF JUSTICE

United States Parole Commission

Sunshine Act Meeting

Public Announcement

Pursuant to the Government in the Sunshine Act (Public Law 94-409) [5 U.S.C. Section 552b].

AGENCY HOLDING MEETING: Department of Justice, United States Parole Commission.

TIME AND DATE: 10:00 a.m., Wednesday, July 12, 2000.

PLACE: 300 Indiana Avenue, NW., Main Floor, Washington, DC 20001.

STATUS: Open.

MATTERS TO BE CONSIDERED: The following matters have been placed on the agenda for the open Parole Commission meeting:

1. Approval of minutes of previous Commission meeting.

2. Reports from the Chairman, Commissioners, Legal, Chief of Staff, Case Operations, and Administrative Sections.

3. Discussion of proposed changes to the Interim Rules and Proposed Rules for District of Columbia Code offenders and Approval of the Proposed Rules as Final Rules.

AGENCY CONTACT: Sam Robertson, Case Operations, United States Parole Commission, (301) 492-5962.

Dated: July 5, 2000.
Michael A. Stover,
General Counsel, U.S. Parole Commission.

[FR Doc. 00-17439 Filed 7-6-00; 10:21 am]

BILLING CODE 4410-31-M